ENVIRONMENTAL PROTECTION AGENCY

40 CFR Part 52

[SIP NO. CO-001-0072; FRL-7931-7]

Approval and Promulgation of Air Quality Implementation Plans; State of Colorado; State Implementation Plan Correction

AGENCY: Environmental Protection Agency (EPA).

ACTION: Final rule; technical correction.

SUMMARY: When EPA approved Colorado's Carbon Monoxide Redesignation to Attainment and Related Revisions for Fort Collins on July 22, 2003, we inadvertently submitted extraneous pages from Regulation No. 13, “Oxygenated Fuels Program” for incorporation by reference into the State Implementation Plan (SIP). EPA is correcting these errors with this document. This action is being taken under section 110(k)(6) of the Clean Air Act.

DATES: This rule is effective on August 1, 2005.

FOR FURTHER INFORMATION CONTACT: Kerri Fiedler, EPA, Region 8, (303) 312-6493, fiedler.kerri@epa.gov.

SUPPLEMENTARY INFORMATION: Throughout this document, wherever “we” or “our” is used it means the EPA.

Section 553 of the Administrative Procedures Act, 5 U.S.C. 553(b)(B), provides that, when an agency for good cause finds that notice and public procedures are impracticable, unnecessary or contrary to the public interest, the agency may issue a rule without providing notice and an opportunity for public comment. We have determined that there is good cause for making today's rule final without prior proposal and opportunity for comment because we are merely correcting erroneous text in previous rulemakings. Thus notice and public procedure are unnecessary. We find that this constitutes good cause under 5 U.S.C. 553(b)(B).

I. Correction to Federal Register Document Published on July 22, 2003 (68 FR 43316)

On July 22, 2003 (68 FR 43316), we approved the Fort Collins Carbon Monoxide Redesignation to Attainment and Related Revisions submitted by the Governor of Colorado on August 9, 2002. In this action, we also approved revisions to Regulation No. 13, “Oxygenated Fuels Program.” We inadvertently submitted a sentence and a paragraph from Regulation No. 13 for incorporation by reference into the SIP. Therefore, we are correcting this error by resubmitting the incorporation by reference material in 40 CFR 52.320(c)(99)(i)(B) to the Air and Radiation Docket and Information Center and the Office of the Federal Register. We also inadvertently included the sentence and paragraph in the regulatory text at 40 CFR 52.320(c)(99)(i)(B). We are correcting the regulatory text to indicate that the sentence and paragraph are not in the SIP. Regulation No. 13 includes a sentence and a paragraph that are State only regulations, and should not be included in the SIP. Therefore, the last sentence in Section II.C.1.c.v. of Regulation No. 13: “This Section II.C.1.c.v. is repealed effective February 1, 2019 and is replaced by the requirements in Section II.C.1.c.vi. below beginning November 1, 2019.,” and Section II.C.1.c.vi. of Regulation No. 13: “Effective November 1, 2019, the minimum oxygen content by weight shall be at least 2.7% from November 1 through the end of the Oxygenated Gasoline Control Period as defined in Section II.B. The average oxygen content by weight shall be at least 3.1% from November 1 through February 7. This Section II.C.1.c.vi. shall be a state only regulation, and shall not be included in the State Implementation Plan.” are being removed from the SIP.

II. Statutory and Executive Order Review

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4, 109 Stat. 48 (1995)). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the Executive Order. This rule does not impose an information collection burden under the Paperwork Reduction Act of 1995 (44 U.S.C. 3501 et seq.). EPA's compliance with these statutes and Executive Orders for the underlying rules are discussed in the July 22, 2003 rule approving Colorado's Carbon Monoxide Redesignation Request and Related Revisions for Fort Collins.

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefore, and established an effective date of August 1, 2005. EPA will submit a report containing this rule and other required information to the U.S. Senate, the U.S. House of Representatives, and the Comptroller General of the United States prior to publication of the rule in the Federal Register. These corrections to the identification of plan for Utah is not a “major rule” as defined by 5 U.S.C. 804(2).

List of Subjects in 40 CFR Part 52

Environmental protection, Air pollution control, Carbon monoxide, Incorporation by reference, Intergovernmental relations, Reporting and recordkeeping requirements.

Dated: June 17, 2005.
Kerrigan G. Clough,
Acting Regional Administrator, Region VIII.

40 CFR Part 52 is amended as follows:

PART 52—[CORRECTED]

1. The authority citation for part 52 continues to read as follows:

Authority: 42 U.S.C. 7401 et seq.

Subpart G—Colorado

2. Section 52.320 is amended by revising paragraph (c)(99)(i)(B) to read as follows:

§ 52.320 Identification of plan.

* * * * *

(c) * * *

(99) * * *

(i) * * *

(B) Regulation No. 13 “Oxygenated Fuels Program”, 5 CCR 1001-16, except for section III, the last sentence in Section II.C.1.c.v., “This Section II.C.1.c.v. is repealed effective February 1, 2019 and is replaced by the requirements in Section II.C.1.c.vi. below beginning November 1, 2019.,” and Section II.C.1.c.vi., as adopted on July 18, 2002, effective September 30, 2002, which supersedes and replaces all prior versions of Regulation No. 13.

* * * * *

[FR Doc. 05-13061 Filed 6-30-05; 8:45 am]

BILLING CODE 6560-50-P